DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending March 31, 2010.

Last name | First name | Middle name/initials
AKHAVAN | SEPEHR |
AMBANI | AKASH | MUKESH
AMBANI | ISHA | MUKESH
BENSTED | JOHN | MALCOLM
BERMAN | JACQUELINE | FAY
BHARWANEY | NEEL | K
BISHOP | MARGARET |
BISHOP | JEREMY | C
BURMESTER | ROLF | W
CALLAHAN | SUN | IM
CHAN | SAMUEL |
CHAN | KEVEN | TIN YAU
CHAN | JOYCE | YET-WUN
CHANG | KAREN | YI-FEN
CHAU | LING | TING
CHEN | LYNEN |
CHEN | SU-JANE |
CHEN | VICTOR |
CHEN | MICHAEL | JEN-KWEI
CHENG | KENNY |
CHEONG | JUNE | CHENG
CHIN | WILLIAM | KUO FENG
CHOA | JAMES | MICHAEL
CHU-YIP | PANCY | SIU LING
CLARK | RONALD | I
CLARKE | DAVID | N
CURLEY | RENATE | H
DARD | GILLES |
DE TREY | LORRAINE | ANNE
DECKER | MARGARET |
DEUCHER | FIONA | CLARINA
DEUCHER | ANNINA | XENIA CONCHITA
DEVOURDY | CHRISTINE |
DODDS | BARRY | A
DUDLEY | SON | YONG
DUNN | PAUL | S
DUPREZ | DANIELLE | HELENE
EGGENSCHWILER | ARIANE | MICHELLE
EHLERS | ERIC | ANDREW
ENNS | KIMBERLEY | D
FANG | CHARLES |
FAYE-SCHJOLL | LISE | KAREN
FERREIRA | DELFINO | COVINHA
FISCHER HIRS | CHRISTOPH | THOMAS
FISHER | SUSAN |
FISHER | JAMES | L
FORRER | THOMAS | JAMES
FORSTER | PAUL | WHITFIELD
FOX | SALLY | GOERS
FRAZIER | DACEIA | CHARMAYNE
FUJIWARA | NORIKO |
GOBLET | BERNARD |
GONSALVES | PRISCILLA | TAPLEY
GUTIERREZ | NOEMI | C
GUTIERREZ | CARLOS | R
HASANDKA | THIRUMALESHWARA |
HAUSSMANN | WILLIAM | FREDERICK
HAYASHI | PAUL | M.
HECKNER | MICHAEL | JOHANNES
HELLMAN | LISA | JANE
HELLMAN-MERZBACHER | JESSICA |
HENTSCH | NIKOLAI |
HO | EUNICE | YUK LING
HOTTINGER | PETER | A
HUANG | YU-CHING |
IKEDA | MAKIKO |
ISHERWOOD | JASON | SCOTT
ITO | KAZUHIKO |
IVSAN | JOHN | VINCENT
JENSEN | CARL | CHRISTIAN
JOU | JING-YANG |
JUNCZYK-ZIOMECKI | EWA |
KANGA | MEHER |
KATO | MASAYA |
KIM | DOHYONG |
KIMURA | MASAKO |
KIMURA | YASUHIRO |
KNOX | RONALD | PRESTON
KOLOVRAT | ELIZABETH |
KULLBERG | CHRISTER | ANDREAS
KWOK | JENNIFER |
LADANYI | HANS | GEORG
LAMPE | ARNO |
LAUREYNS | VEERLE | A
LEBECH | LISA | MARGARET
LEE | YOONBOK | STEPHEN
LEHMANN | ALEXANDER |
LENTHALL | MICHAEL | G
LIMPENS | MARIA | G
LIN | CHOW-MING |
LIU | JEN |
LUDWIG | ROBERT | SANFORD
MADALIJNS | RUDI |
MAK | CLIFFORD | SIU WING
MARTORANO | ZABIDAH | HASIM
MATSUO | TOSHIAKI |
MATSUZAKI | CHIKARA |
MERZBACHER | KARIN |
MERZBACHER | THOMAS |
MEYER-LIEW | ERICA | RUTH
MILLE | KARINA |
MOLLER | KIRSTEN |
MOLYNEUX-CARTER | EMMA | ELIZABETH
MOLYNEUX-CARTER | JAMES | JOHN
MORANT JR | PAUL |
MU | DEJUN |
MULLER | SIGRID | SIMONS
NEDOLUHA | DAVID | A
NEDOLUHA | PATRICIA | E
NEDOLUHA | KEVIN | P
NGAN | MELODY | T
NIENABER | GAWIE | M
NORTON | CHRISTOPHER | WINTHROP
O'DOHERTY | DEIRDRE | MARY
OLDE | ERIKA | JANE
OR | BRIAN | PATRICK
ORMROD | JAMES |
PARKER | RICHARD | L
PEEK | MARISA | NICOLE
PETTERSON | MELVIN | PETTER
PIASENTE-FOLIGNO | MASSIMO |
PICARD | AZUCENA |
PINDER | LEO | RYAN
POTE | KENNETH | C
POTE | MARION | N
QUENNOY | ERIC | ARTHUR
REGO | JOSEPH | M
REITER | MATTHEW | THOMAS
RIIS-JOHANNESSEN | THOMAS |
ROBINSON | NAN | RUSSELL
ROTTMANN | THOMAS | C. K.
ROUSSEAU | LOUISA | WONG
RUFER | DANIEL | HANS
SABA | HAFID | MEKKI
SCHAUB | SHAWN |
SCHEULLER | AMOS |
SCHREINER | ANJA |
SCHREINER | RAY | M
SCHUTTE | OLIVER | ROGER
SETIAWAN | BUDI | R
SHEHABI | HASHEM | KAZI
SHIH | JOHN | ZAOMING
SHIKAMA | KOJI |
SHUNG | E-FUI |
SIMPSON | JUSTIN | S
SKABO | KEVIN | CHRISTOPHER
SLOSAR | JOHN | ROBERT
SOEKEFELD | ELISABETH |
SOLLER | EMIL |
SOTELO | CAROLYN | J
SUH | JINOOK | PAUL
SUNG | TAE | PHYO
SWIJTINK | JORIS | DAEDALUS
TALAAT | TAMER | NASR
TALAAT-SCHNORF | SUSANNE | NANCY
TARAZI | PIERRE | ANTOINE
TRABAND | ELEONORE | A
TSAI | JOSEPH | T
TSE | KEVIN | WING KIN
TSUI | EDWARD | KA HING
VILLEVIEILLE | JEAN-LUC |
WAI | NELSON | J
WALTER | CORINE | CHRISTINE
WANG | SHUI | MING
WATERS | MICHAEL |
WATERS | SUSAN |
WEBB | CANDACE | CYNTHIA
WEBER | KLAUS | WOLFGANG
WEISS | KENNETH | CHRISTOPHER
WENG | LI SCHUANG |
WILSON | SIMON | MARK
WONG | ALAN |
WONG | ANTON | CHUN NAM
WONG | ESTHER | KA-LING
WONG | KAR | WING CLARA
WU | KUNHER |
YOSHIKAWA | TETSUJI |
YU | HENRY | C F
YU | COLLEEN | M

Dated: April 30, 2010.
Angie Kaminski,
Manager Team 103, Examinations Operations—Philadelphia Compliance Services.

[FR Doc. 2010-12333 Filed 5-21-10; 8:45 am]

BILLING CODE 4830-01-P